DEPARTMENT OF COMMERCE

Bureau of Industry and Security

15 CFR Parts 732, 738, 740, 743, 758, and 774

[Docket No. 100923470-0626-02]

RIN 0694-AF03

Export Control Modernization: Strategic Trade Authorization License Exception

AGENCY: Bureau of Industry and Security, Commerce.

ACTION: Proposed rule; correction.

SUMMARY: This document corrects a typographical error in the address for submitting e-mail comments that appeared in a proposed rule, “Export Control Modernization: Strategic Trade Authorization License Exception,” published on December 9, 2010.

DATES: Comments must be received by BIS no later than February 7, 2011.

ADDRESSES: Comments on this correction may be submitted to the Federal rulemaking portal (http://www.regulations.gov). The regulations.gov ID for this rule is: BIS-2010-0038. Comments may also be submitted via e-mail to publiccomments@bis.doc.gov or on paper to Regulatory Policy Division, Bureau of Industry and Security, Room 2705, U.S. Department of Commerce, Washington, DC 20230. Please refer to RIN 0694-AF03 in all comments and in the subject line of e-mail comments.

FOR FURTHER INFORMATION CONTACT: William H. Arvin, Regulatory Policy Division, e-mail warvin@bis.doc.gov, telephone 202-482-2440.

SUPPLEMENTARY INFORMATION: The address for submitting e-mail comments was incorrectly stated under the ADDRESSES caption of a proposed rule entitled “Export Control Modernization: Strategic Trade Authorization License Exception” (75 FR 76653, December 9, 2010). This correction notice states the correct e-mail address in the ADDESSSES caption, which is publiccomments@bis.doc.gov.

In proposed rule FR Doc. 2010-30968, beginning on page 76653 in the issue of December 9, 2010, make the following correction: On page 76654, in the ADDRESSES section, correct “publiccomments.bis.doc.gov” to read “publiccomments@bis.doc.gov”.

Bernard Kritzer,
Director, Office of Exporter Services.

[FR Doc. 2010-32441 Filed 12-23-10; 8:45 am]

BILLING CODE 3510-33-P